COMMITTEE FOR PURCHASE FROM PEOPLE WHO ARE BLIND OR SEVERELY DISABLED

Procurement List; Deletions

AGENCY: Committee for Purchase from People Who Are Blind or Severely Disabled.

ACTION: Deletions from Procurement List.

SUMMARY: This action deletes from the Procurement List services previously furnished by nonprofit agencies employing persons who are blind or have other severe disabilities.

EFFECTIVE DATE: December 26, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Deletions

On March 26, 2004, the Committee for Purchase From People Who Are Blind or Severely Disabled published notice (69 FR 15786-87) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial, Carl Albert Federal Building and U.S. Courthouse, McAlester, Oklahoma.

NPA: None currently authorized.

Contract Activity: General Services Administration.

Service Type/Location: Janitorial/Custodial,

J. Marvin Jones Federal Building & U.S. Courthouse, Amarillo, Texas.

NPA: None currently authorized.

Contract Activity: GSA, PBS.

Service Type/Location: Janitorial/Custodial,

U.S. Federal Building, Courthouse and Post Office, Batesville, Arkansas.

NPA: None currently authorized.

Contract Activity: General Services Administration.

Service Type/Location: Janitorial/Custodial,

U.S. Federal Building, Courthouse and Post Office, Pine Bluff, Arkansas.

NPA: None currently authorized.

Contract Activity: General Services Administration.

Service Type/Location: Janitorial/Custodial,

U.S. Federal Building, Gallup, New Mexico.

NPA: None currently authorized.

Contract Activity: GSA, PBS.

Sheryl D. Kennerly,
Director, Information Management.

[FR Doc. 04-26159 Filed 11-24-04; 8:45 am]

BILLING CODE 6353-01-P